DEPARTMENT OF THE INTERIOR

National Park Service

[NPS-WASO-NAGPRA-NPS0040479; PPWOCRADN0-PCU00RP14.R50000]

Notice of Inventory Completion: Antelope Valley College, Lancaster, CA

AGENCY: National Park Service, Interior.

ACTION: Notice.

SUMMARY: In accordance with the Native American Graves Protection and Repatriation Act (NAGPRA), Antelope Valley College (AVC) has completed an inventory of human remains and associated funerary objects and has determined that there is a cultural affiliation between the human remains and associated funerary objects and Indian Tribes or Native Hawaiian organizations in this notice.

DATES: Repatriation of the human remains and associated funerary objects in this notice may occur on or after August 11, 2025.

ADDRESSES: Send written requests for repatriation of the human remains and associated funerary objects in this notice to Dr. Darcy L. Wiewall, Antelope Valley College, 3041 W Ave. K, Lancaster, CA 93536, email darcy.wiewall@avc.edu.

SUPPLEMENTARY INFORMATION: This notice is published as part of the National Park Service's administrative responsibilities under NAGPRA. The determinations in this notice are the sole responsibility of AVC, and additional information on the determinations in this notice, including the results of consultation, can be found in its inventory or related records. The National Park Service is not responsible for the determinations in this notice.

Abstract of Information Available

Human remains representing, at least, eight individuals have been identified. The two lots of associated funerary objects consist of shell & lithic beads and pendants, lithic, and faunal material. The individuals and associated funerary objects were removed from the Lazy-T Cemetery (CA-LAN-767) site is in Palmdale, California, in the Antelope Valley portion of the western Mojave Desert, in North Los Angeles County. Excavated by Roger Robinson, Instructor of Anthropology at Antelope Valley College (AVC) between February and May 1975 as part of an archaeological field class under his direction. Roger Robinson subsequently transferred the collection to his personal residence in 2007. In 2019, Antelope Valley College took possession of the collection. Based on the typology of associated funerary items, the collection dates to approximately A.D. 800-1700. While there is no record regarding potentially hazardous substances having been used to treat the human remains, an unidentified adhesive is present.

Based on archaeological context and information learned from consultations, with representatives of the Yuhaaviatam of San Manuel Nation (also known as the San Manuel Band of Mission Indians) and non-federally recognized California Tribes including the Fernandeño Tataviam Band of Mission Indians and the San Fernando Band of Mission Indians, these individuals are Native American. Archaeologists have asserted that Serrano and Tataviam peoples have continuously occupied the San Gabriel Mountains and the surrounding areas for up to 5,000-6,000 years BP. Linguistic sources demonstrate a strong continuous shared group identity between those people and modern Native Americans of Serrano and Tataviam descent. Ethnographic evidence and Traditional Knowledge document the Palmdale region as home to Serrano and Tataviam peoples since time immemorial.

Based on archaeological context and information learned from consultations, these individuals are Native American. Archaeologists have asserted that Serrano and Tataviam peoples have continuously occupied the San Gabriel Mountains and the surrounding areas for up to 5,000-6,000 years BP. Linguistic sources demonstrate a strong continuous shared group identity between those people and modern Native Americans of Serrano and Tataviam descent. Ethnographic evidence and Traditional Knowledge document the Palmdale region as home to Serrano and Tataviam peoples since time immemorial.

Cultural Affiliation

Based on the information available and the results of consultation, cultural affiliation is reasonably identified by the geographical location or acquisition history of the human remains and associated funerary objects described in this notice. The following types of information were used to reasonably trace the relationship: anthropological information, archaeological information, geographical information, folkloric, historical, kinship, linguistic, oral traditional, and expert opinion, including Tribal Traditional Knowledge.

Determinations

AVC has determined that:

• The human remains described in this notice represent the physical remains of eight individuals of Native American ancestry.

• The two lots of objects described in this notice are reasonably believed to have been placed intentionally with or near individual human remains at the time of death or later as part of the death rite or ceremony.

• There is a connection between the human remains and associated funerary objects described in this notice and the Yuhaaviatam of San Manuel Nation (previously listed as San Manuel Band of Mission Indians, California).

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 11, 2025. If competing requests for repatriation are received, AVC must determine the most appropriate requestor prior to repatriation. Requests for joint repatriation of the human remains and associated funerary objects are considered a single request and not competing requests. AVC is responsible for sending a copy of this notice to the Indian Tribes and Native Hawaiian organizations identified in this notice and any other consulting parties.

Authority: Native American Graves Protection and Repatriation Act, 25 U.S.C. 3003, and the implementing regulations, 43 CFR 10.10.

Dated: June 25, 2025.
Melanie O'Brien,
Manager, National NAGPRA Program.

[FR Doc. 2025-12832 Filed 7-9-25; 8:45 am]

BILLING CODE 4312-52-P